ENVIRONMENTAL PROTECTION AGENCY

[FRL #10-014; FRL-9141-9]

Notice of Availability of the Draft National Pollutant Discharge Elimination System (NPDES) General Permits MAG910000 and NHG910000 for Remediation Facility Discharges in the Commonwealth of Massachusetts (Including Both Commonwealth and Indian Country Lands) and the State of New Hampshire: The Remediation General Permits (RGP)

AGENCY: Environmental Protection Agency (EPA).

ACTION: Notice of availability of draft NPDES general permits MAG910000 and NHG910000.

SUMMARY: The Director of the Office of Ecosystem Protection, Environmental Protection Agency—Region I (EPA New England), is providing this notice of availability of the draft National Pollutant Discharge Elimination System (NPDES) general permits for remediation facility discharges to certain waters of the Commonwealth of Massachusetts (including both Commonwealth and Indian country lands) and the State of New Hampshire. EPA is proposing to issue two nearly identical general permits for the two states. Throughout this document the terms “Remediation General Permit,” “RGP,” and “permit” will refer to the two general permits.

The Remediation General Permit (RGP) replaces the existing RGP, which will expire on September 9, 2010. The draft RGP establishes Notice of Intent (NOI) requirements, effluent limitations, standards, prohibitions, and management practices for facilities with discharges from remediation activities. Owners and/or operators of these facilities, including those currently authorized to discharge under the expiring RGP, will be required to submit a NOI to be covered by the RGP to EPA New England and the appropriate state agency. After EPA and the State have reviewed the NOI, the facility will receive a written notification from EPA of permit coverage and authorization to discharge under the RGP. The purpose of this document is to solicit public comments on the proposed RGP. This action is being taken in accordance with the provisions of the Federal Clean Water Act (CWA), as amended (33 U.S.C. 1251 et seq.).

DATES: Interested persons may submit written comment on the draft RGP to EPA-Region I at the address listed below. Within the comment period, interested persons may also request in writing that EPA hold a public hearing pursuant to 40 CFR 124.12, concerning the draft RGP. Such requests shall state the nature of the issues proposed to be raised at the hearing. A public hearing may be held at least thirty days (30) after public notice whenever the Regional Administrator finds that the response to the notice indicates significant public interest. In reaching a final decision on this draft RGP, the Regional Administrator will respond to all significant comments and make responses available to the public at the EPA New England office. All comments and requests for a public hearing must be postmarked or delivered before midnight May 26, 2010, the close of the public comment period, and must be submitted to the address below.

ADDRESSES: Written comments on the draft RGP may be hand delivered or mailed to Mr. Victor Alvarez, EPA-Region 1, Office of Ecosystem Protection, 5 Post Office Square, Suite 100, Mail Code OEP-06-4, Boston, MA 02109-3912, or sent via email to alvarez.victor@epa.gov. No facsimiles (faxes) will be accepted. The draft RGP is based on an administrative record available for public review at EPA-Region I, Office of Ecosystem Protection, 5 Post Office Square, Suite 100, Boston, MA 02109-3912, Monday-Friday from 9 a.m. to 5 p.m. The draft RGP, appendices, and fact sheet may also be reviewed over the Internet at: http://www.epa.gov/ne/npdes/rgp.html. To obtain a paper copy of the documents, please contact Mr. Alvarez using the contact information provided above. A reasonable fee may be charged for copying requests.

FOR FURTHER INFORMATION CONTACT: Mr. Alvarez at 617-918-1572, between the hours of 9 a.m. and 5 p.m. Monday through Friday, excluding holidays.

Dated: April 19, 2010.
Ira Leighton,
Acting EPA Regional Administrator, Region 1.

[FR Doc. 2010-9628 Filed 4-23-10; 8:45 am]

BILLING CODE 6560-50-P